DEPARTMENT OF ENERGY

Federal Energy Regulatory Commission

[Docket No. IC12-2-000]

Commission Information Collection Activities, Proposed Collection (FERC-550); Comment Request; Extension

AGENCY: Federal Energy Regulatory Commission, DOE.

ACTION: Notice of Proposed Information Collection and Request for Comments.

SUMMARY: In compliance with the requirements of Section 3506 (c)(2)(a) of the Paperwork Reduction Act of 1995 (Pub. L. 104-13), the Federal Energy Regulatory Commission (FERC or Commission) is soliciting public comment on the specific aspects of the information collection described below.

DATES: Comments on the collection of information are due by February 6, 2012.

ADDRESSES: Comments may be filed either electronically (eFiled) or in paper format. The comments should refer to Docket No. IC12-2-000. Documents must be prepared in an acceptable filing format and in compliance with Commission submission guidelines at: http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's email address upon receipt of eFiled comments. Commenters making an eFiling should not make a paper filing. Commenters that are not able to file electronically must send an original of their comments to: Federal Energy Regulatory Commission, Secretary of the Commission, 888 First Street, NE., Washington, DC 20426.

Users interested in receiving automatic notification of activity in this docket may do so through eSubscription at: http://www.ferc.gov/docs-filing/esubscription.asp. All comments and FERC issuances may be viewed, printed or downloaded remotely through FERC's eLibrary at: http://www.ferc.gov/docs-filing/elibrary.asp, by searching on Docket No. IC12-2-000. For user assistance, contact FERC Online Support by email at ferconlinesupport@ferc.gov, or by phone at: (866) 208-3676 (toll-free), or (202) 502-8659 for TTY.

FOR FURTHER INFORMATION CONTACT: Ellen Brown may be reached by email at DataClearance@FERC.gov, telephone at (202) 502-8663, by fax at (202) 273-0873.

SUPPLEMENTARY INFORMATION: The Commission uses the information collected under the requirements of FERC-550, “Oil Pipeline Rates: Tariff Filings” (OMB No. 1902-0089), to implement the statutory provisions of Parts 1, 6, and 15 of the Interstate Commerce Act (ICA) (Pub. L. 337, 34 Stat. 584). Jurisdiction over oil pipelines as it relates to the establishment of valuations for pipelines was transferred from the Interstate Commerce Commission (ICC) to FERC, pursuant to sections 306 and 402 of the Department of Energy Organization Act (DOE Act), 42 U.S.C. 7155 and 7172, and Executive Order No. 12009, 42 FR 46267 (September 17, 1977).

18 CFR Parts 341-348 specifies the filing requirements for proposed oil pipeline rates. The data that oil pipelines file is the basis for Commission analyses of the rates they plan to charge to transport crude oil and petroleum products. The Commission uses its analyses: (1) To determine if the proposed charges result in just and reasonable rates for the oil pipeline's transportation services and (2) to help the Commission decide whether it should suspend, accept or reject the proposed rates.

Action: The Commission is requesting a three-year extension of the current expiration date with no changes to the existing collection. The information filed with the Commission is mandatory.

Burden Statement: Public Reporting Burden for this information collection is estimated as:

Number of respondents annually (1) | Number of responses per respondent (2) | Average burden hours per response (3) | Total annual burden hours (4)
128 | 4 | 11 | 5632

The total annual cost of filing FERC-550 is: 5,632 hours/2080 hours ¹ × $142,372 ² equals $385,500. The annual cost of filing FERC-550 per respondent is $3,012.

¹ Number of hours an employee works in a year.

² Average annual salary per employee.

The reporting burden includes the total time, effort, or financial resources expended to generate, maintain, retain, disclose, or provide the information including: (1) Reviewing instructions; (2) developing, acquiring, installing, using technology and systems for the purposes of collecting, validating, verifying, processing, maintaining, disclosing and providing information; (3) adjusting the existing ways to comply with any previously applicable filing instructions and requirements; (4) training personnel to respond to a collection of information; (5) searching data sources; (6) completing and reviewing the collection of information; and (7) transmitting, or otherwise disclosing the information.

The Commission bases the cost estimate for respondents upon salaries within the Commission for professional and clerical support. This cost estimate includes respondents' total salary and employment benefits.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Dated: December 2, 2011.
Kimberly D. Bose,
Secretary.

[FR Doc. 2011-31515 Filed 12-7-11; 8:45 am]

BILLING CODE 6717-01-P